DEPARTMENT OF DEFENSE

GENERAL SERVICES ADMINISTRATION

NATIONAL AERONAUTICS AND SPACE ADMINISTRATION

48 CFR Part 4

[FAC 2001-16; FAR Case 2002-025; Item III]

RIN 9000-AJ70

Federal Acquisition Regulation; Unique Contract and Order Identifier Numbers

Correction

In rule document 03-24584 beginning on page 56679 in the issue of Wednesday, October 1, 2003, make the following correction:

On page 56680, in the second column, under the heading D. Dertermination To Issue an Interim Rule, in the 12th line, “8-577 ” should read “98-577”

[FR Doc. C3-24584 Filed 10-24-03; 8:45 am]

BILLING CODE 1505-01-D

DEPARTMENT OF TRANSPORTATION

Federal Motor Carrier Safety Administration

49 CFR Parts 390 and 398

[Docket No. FMCSA-2000-7017]

RIN 2126-AA52

Safety Requirements for Operators of Small Passenger-Carrying Commercial Motor Vehicles Used in Interstate Commerce

Correction

In rule document 03-20369 beginning on page 47860 in the issue of Tuesday, August 12, 2003, make the following correction:

On page 27860, in the second column, under the DATES heading, in the fifth line, “November 10, 2003” should read “December 10, 2003.”

[FR Doc. C3-20369 Filed 10-24-03; 8:45 am]

BILLING CODE 1505-01-D